Title 3—

The President

Memorandum of November 29, 2018

Delegation of Authority Under Section 614(a)(1) of the Foreign Assistance Act of 1961

Memorandum for the Secretary of State

By the authority vested in me as President by the Constitution and the laws of the United States of America, including section 301 of title 3, United States Code, and subject to fulfilling the requirements of section 614(a)(3) of the Foreign Assistance Act of 1961 (FAA), I hereby delegate to you the authority under section 614(a)(1) of the FAA to determine whether it is important to the security interests of the United States to use up to $1.3 million in International Military Education and Training (IMET) funds to furnish assistance to Thailand without regard to any other provision of law within the purview of section 614(a)(1) of the FAA.

You are authorized and directed to publish this memorandum in the Federal Register.

THE WHITE HOUSE,

Washington, November 29, 2018

[FR Doc. 2018-27694

Filed 12-19-18; 8:45 am]

Billing code 4710-10-P